Proclamation 8428 of October 1, 2009

National Domestic Violence Awareness Month, 2009

By the President of the United States of America

A Proclamation

Domestic violence touches the lives of Americans of all ages, leaving a devastating impact on women, men, and children of every background and circumstance. A family’s home becomes a place of fear, hopelessness, and desperation when a woman is battered by her partner, a child witnesses the abuse of a loved one, or a senior is victimized by family members. Since the 1994 passage of the landmark Violence Against Women Act, championed by then Senator Joe Biden, our Nation has strengthened its response to this crime and increased services for victims. Still, far too many women and families in this country and around the world are affected by domestic violence. During National Domestic Violence Awareness Month, we recommit ourselves to ending violence within our homes, our communities, and our country.

To effectively respond to domestic violence, we must provide assistance and support that meets the immediate needs of victims. Facing social isolation, victims can find it difficult to protect themselves and their children. They require safe shelter and housing, medical care, access to justice, culturally specific services, and economic opportunity. The Family Violence Prevention and Services Act supports emergency shelters, crisis intervention programs, and community education about domestic violence.

In the best of economic times, victims worry about finding a job and housing, and providing for their children; these problems only intensify during periods of financial stress. That is why the American Recovery and Reinvestment Act provides $325 million for the Violence Against Women Act (VAWA) and the Victims of Crime Act (VOCA). This funding will supplement the Federal VAWA and VOCA dollars that flow to communities every year, and enable States, local governments, tribes, and victim service providers to retain and hire personnel that can serve victims and hold offenders accountable. These funds will also bring relief to victims seeking a safe place to live for themselves and their children.

Victims of violence often suffer in silence, not knowing where to turn, with little or no guidance and support. Sadly, this tragedy does not just affect adults. Even when children are not directly injured by violence, exposure to violence in the home can contribute to behavioral, social, and emotional problems. High school students who report having experienced physical violence in a dating relationship are more likely to use drugs and alcohol, are at greater risk of suicide, and may carry patterns of abuse into future relationships. Our efforts to address domestic violence must include these young victims.

During this month, we rededicate ourselves to breaking the cycle of violence. By providing young people with education about healthy relationships, and by changing attitudes that support violence, we recognize that domestic violence can be prevented. We must build the capacity of our Nation’s victim service providers to reach and serve those in need. We urge community leaders to raise awareness and bring attention to this quiet crisis. And across America, we encourage victims and their families to call the National Domestic Violence Hotline at 1-800-799-SAFE. Together, we must ensure that, in America, no victim of domestic violence ever struggles alone.

NOW, THEREFORE, I, BARACK OBAMA, President of the United States of America, by virtue of the authority vested in me by the Constitution and the laws of the United States, do hereby proclaim October 2009, as National Domestic Violence Awareness Month. I ask all Americans to do their part to end domestic violence in this country by supporting their communities’ efforts to assist victims in finding the help and healing they need.

IN WITNESS WHEREOF, I have hereunto set my hand this first day of October, in the year of our Lord two thousand nine, and of the Independence of the United States of America the two hundred and thirty-fourth.

[FR Doc. E9-24289

Filed 10-6-09; 8:45 am]

Billing code 3195-W9-P